DEPARTMENT OF HEALTH AND HUMAN SERVICES

Administration for Children and Families

Agency Recordkeeping/Reporting Requirements Under Emergency Review by the Office of Management and Budget (OMB)

Title: Administration for Children & Families (ACF) Electronic Case Management System (ECMRS).

OMB No.: Revision of 0970-0461.

Description: The recent climatic events of Hurricane Harvey and Hurricane Irma have created catastrophic disasters in Texas, Louisiana, Puerto Rico, U.S. Virgin Islands, and Florida. President Trump has declared these climatic events as major disaster declarations. FEMA is providing assistances to these states and territories under declaration numbers DR-4332 & DR-4337.

There are looming public health issues related to flooding, and especially among at risk populations. Risks include contracting water‐borne and vector‐borne diseases, substance abuse, and mental health concerns, including PTSD, depression, anxiety, and homelessness.

Therefore, it is essential for the mission of ACF to activate the Immediate Disaster Case Management (IDCM) Electronic Case Management Record System (ECMRS). The ECMRS will be used to collect and manage information from the disaster affected clients. This information includes demographics, disaster caused unmet needs, and referrals provided. The information collected is critical to develop a recovery plan for each survivor.

Respondents: Clients.

Annual Burden Estimates
Instrument | Number of respondents | Number of responses per respondent | Average burden hours per response | Total burden hours
Immediate Disaster Case Management | 406,500 | 1 | 1 | 406,500

Additional Information: ACF is requesting that OMB grant a 180-day approval for this information collection under procedures for emergency processing by September 22, 2017. A copy of this information collection, with applicable supporting documentation, may be obtained by calling the Administration for Children and Families, Reports Clearance Officer, Robert Sargis at (202) 690-7275. Email address: rsargis@acf.hhs.gov.

Comments and questions about the information collection described above should be directed to the following address by September 22, 2017. Office of Information and Regulatory Affairs, Office of Management and Budget, Paperwork Reduction Project, Desk Officer for ACF.

Robert Sargis,
Reports Clearance Officer.

[FR Doc. 2017-20022 Filed 9-19-17; 8:45 am]

BILLING CODE 4184-01-P